DEPARTMENT OF HOMELAND SECURITY

Coast Guard

[USCG 2002-13487]

Environmental Assessment of Implementation of the Coast Guard Training Center Cape May's Integrated Natural Resources Management Plan

AGENCY: Coast Guard, DHS.

ACTION: Notice of availability of finding of no significant impact (FONSI).

SUMMARY: The U.S. Coast Guard announces the availability of its Finding of No Significant Impact (FONSI) regarding its implementation of the Coast Guard Training Center Cape May's Integrated Natural Resources Management Plan (INRMP) in Cape May, New Jersey. The FONSI records the Coast Guard's determination that the proposed implementation would have no significant impact on the environment.

ADDRESSES: The material referenced in this notice is available for inspection at Docket Management Facility (USCG-2002-13487), U.S. Department of Transportation, Room PL-401, 400 Seventh Street SW, Washington, DC 20590-0001 and on the Internet at http://dms.dot.gov. Written requests for copies of the FONSI, or requests for information, should be directed to: U. S. Coast Guard Training Center, Facilities Engineering, 1 Munro Ave., Cape May, NJ 08204.

FOR FURTHER INFORMATION CONTACT: If you have questions about the project, you may contact Mr. Christopher Hajduk, at 1 Munro Avenue, Cape May, NJ 08204, or chajduk@tracencapemay.uscg.mil.

SUPPLEMENTARY INFORMATION: On October 21, 2002, the Coast Guard published a notice in the Federal Register (67 FR 64694-64695) requesting comments on a draft Integrated Natural Resources Management Plan (INRMP) and Environmental Assessment (EA) developed for use by U.S. Coast Guard (USCG) and the USCG Training Center (TRACEN) Cape May, New Jersey in accordance with USCG Commandant Instruction (COMDTINST) M5090.3, Natural Resources Management, COMDTINST M16475.1D, National Environmental Policy Act Manual, and Department of Transportation (DOT) Order 5610.1C, Procedures for Considering Environmental Impacts.

The INRMP provides TRACEN Cape May with a description of the Installation (e.g., location, history, and mission), information about the surrounding physical and biotic environment, and an assessment of the impacts to natural resources as a result of mission activities. Furthermore, the INRMP recommends various management practices, in compliance with Federal, state, and local standards, designed to mitigate negative impacts and to enhance the positive effects of the TRACEN's mission on local ecosystems.

The INRMP integrates all aspects of natural resources management with the rest of the TRACEN Cape May's mission, and therefore becomes the primary tool for managing the TRACEN's ecosystems while ensuring the successful accomplishment of the training, law enforcement, and Search and Rescue (SAR) missions at the highest possible levels of efficiency. The INRMP is a guide for the management and stewardship of all natural resources present at the TRACEN.

No comments were received during the review process.

The INRMP and EA are available for public inspection or copying at the Docket Management Facility listed in ADDRESSES. The Docket Management Facility is open 9 a.m. to 5 p.m., Monday through Friday, except Federal holidays. You may also find this docket on the Internet at http://dms.dot.gov.

Dated: July 8, 2003.
D.S. Klipp
CDR, U.S. Coast Guard, Facilities Engineer, Coast Guard Training Center, Cape May.

[FR Doc. 03-19040 Filed 7-25-03; 8:45 am]

BILLING CODE 4910-15-P